DEPARTMENT OF COMMERCE

National Oceanic and Atmospheric Administration

[RTID 0648-XD541]

Pacific Island Fisheries; Western Pacific Stock Assessment Review; Public Meeting

AGENCY: National Marine Fisheries Service (NMFS), National Oceanic and Atmospheric Administration (NOAA), Commerce.

ACTION: Notice; public meeting.

SUMMARY: The Western Pacific Fishery Management Council (Council) and NMFS will convene a Western Pacific Stock Assessment Review (WPSAR) of a benchmark stock assessment for the main Hawaiian Islands (MHI) Deep 7 Bottomfish Complex.

DATES: The WPSAR meeting will be held between December 11 and December 15, 2023. See SUPPLEMENTARY INFORMATION for meeting dates and times and the daily agenda.

ADDRESSES: The meeting will be open to the public and held in-person the NMFS Honolulu Service Center at Pier 38, 1129 N. Nimitz Hwy., Suite 220, Honolulu, HI 96817.

FOR FURTHER INFORMATION CONTACT: T. Todd Jones, Director, Pacific Islands Fisheries Science Center (PIFSC) Fisheries Research and Monitoring Division (FRMD), telephone: (808) 725-5713, or todd.jones@noaa.gov.

SUPPLEMENTARY INFORMATION: Scientists from the NMFS PIFSC conducted a benchmark stock assessment of the MHI Deep 7 bottomfish complex. This benchmark assessment built on previous assessments that incorporated knowledge from the fishing community for filtering commercial catch and effort data and incorporated a fishery-independent index of relative abundance. A surplus production model that explicitly accounted for both process and observation errors, and directly estimated maximum sustainable yield (MSY)-based reference points as well as trajectories and projections of biomass and harvest rate was used to determine stock status of Deep7 complex. New modeling software was used to run the production model and estimate the trajectory and status of the Deep 7 complex. In addition to updated modeling software, a number of improvements relative to the 2018 benchmark stock assessment and 2021 update assessment were made for the current benchmark stock assessment. These changes include re-evaluating the contribution of non-commercial catch to the total catch, refining the data filtering and index development procedures, and more fully incorporating information on Deep 7 bottomfish species life-history characteristics into the assessment model.

Meeting Agenda for WPSAR Review

The meeting schedule and agenda are as follows:

Monday, December 11, 2023, 8:30 a.m.-4 p.m.

1. Welcome and Introductions

2. Background information

a. Objectives and Terms of Reference

b. Fishery Management

3. History of stock assessments and reviews

4. Stock assessment input data

a. State of Hawaii Fisher and Dealer Reporting Systems

b. Non-commercial catch

c. Life history information

d. Fishery-independent survey

5. Public Comment (3:30 p.m.)

Tuesday, December 12, 2023, 8:30 a.m.-4 p.m.

1. Presentation and review of stock assessment

2. Public comment (3:30 p.m.)

Wednesday, December 13, 2023, 8:30 a.m.-4 p.m.

1. Continue review of stock assessment

Thursday, December 14, 2023, 8:30 a.m.-4 p.m.

1. Continue review of stock assessment (morning)

2. Public comment (11 a.m.)

3. WPSAR Review Panel discussions (afternoon, closed to the public)

Friday, December 15, 2023

1. Continue WPSAR panel discussions (morning, closed to the public)

2. WPSAR Panel Report on Review Outcomes and Recommendations (1 p.m.-4 p.m.)

3. Adjourn

The agenda order may change. The meeting will run as late as necessary to complete scheduled business.

Special Accommodations

This meeting is physically accessible to people with disabilities. Please direct requests for sign language interpretation or other auxiliary aids to T. Todd Jones, Director, PIFSC FRMD, telephone: (808) 725-5713, or todd.jones@noaa.gov at least 5 days prior to the meeting date.

Authority: 16 U.S.C. 1801 et seq.

Dated: November 14, 2023.
Rey Israel Marquez,
Acting Deputy Director, Office of Sustainable Fisheries, National Marine Fisheries Service.

[FR Doc. 2023-25535 Filed 11-17-23; 8:45 am]

BILLING CODE 3510-22-P